DEPARTMENT OF TRANSPORTATION

Federal Aviation Administration

14 CFR Part 39

[Docket No. FAA-2024-0468; Project Identifier MCAI-2023-00762-T; Amendment 39-22898; AD 2024-24-08]

RIN 2120-AA64

Airworthiness Directives; Airbus Canada Limited Partnership (Type Certificate Previously Held by C Series Aircraft Limited Partnership (CSALP); Bombardier, Inc.) Airplanes

AGENCY: Federal Aviation Administration (FAA), DOT.

ACTION: Final rule.

SUMMARY: The FAA is adopting a new airworthiness directive (AD) for certain Airbus Canada Limited Partnership Model BD-500-1A10 and BD-500-1A11 airplanes. This AD was prompted by multiple occurrences of pilot and co-pilot seats locking in a fore-aft position due to the seat fore-aft adjustment mechanism disconnecting, caused by a broken cotter pin in the seat base egress linkage. This AD requires modifying the pilot and co-pilot seats by replacing the hardware of the seat base egress linkage, as specified in a Transport Canada AD, which is incorporated by reference. The FAA is issuing this AD to address the unsafe condition on these products.

DATES: This AD is effective January 13, 2025.

The Director of the Federal Register approved the incorporation by reference of a certain publication listed in this AD as of January 13, 2025.

ADDRESSES:

AD Docket: You may examine the AD docket at regulations.gov under Docket No. FAA-2024-0468; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Transport Canada material identified in this AD, contact Transport Canada, Transport Canada National Aircraft Certification, 159 Cleopatra Drive, Nepean, Ontario K1A 0N5, Canada; telephone 888-663-3639; email TC.AirworthinessDirectives-Consignesdenavigabilite.TC@tc.gc.ca. You may find this material on the Transport Canada website at tc.canada.ca/en/aviation.

• You may view this material at the FAA, Airworthiness Products Section, Operational Safety Branch, 2200 South 216th St., Des Moines, WA. For information on the availability of this material at the FAA, call 206-231-3195. It is also available at regulations.gov under Docket No. FAA-2024-0468.

FOR FURTHER INFORMATION CONTACT: Fatin Saumik, Aviation Safety Engineer, FAA, 1600 Stewart Avenue, Suite 410, Westbury, NY 11590; phone 516-228-7300; email fatin.r.saumik@faa.gov.

SUPPLEMENTARY INFORMATION:

Background

The FAA issued a notice of proposed rulemaking (NPRM) to amend 14 CFR part 39 by adding an AD that would apply to certain Airbus Limited Partnership Model BD-500-1A10 and BD-500-1A11 airplanes. The NPRM published in the Federal Register on March 21, 2024 (89 FR 20144). The NPRM was prompted by AD CF-2023-40, dated June 13, 2023, issued by Transport Canada, which is the aviation authority for Canada (Transport Canada AD CF-2023-40) (also referred to as the MCAI). The MCAI states that there have been in-service occurrences of pilot and co-pilot seats becoming locked in a fore-aft position due to disconnection of the seat fore-aft adjustment mechanism caused by a broken cotter pin in the seat base egress linkage.

In the NPRM, the FAA proposed to require modifying the pilot and co-pilot seats by replacing the hardware of the seat base egress, as specified in Transport Canada AD CF-2023-40. The FAA is issuing this AD to address the disconnection of the seat fore-aft adjustment mechanism caused by a broken cotter pin in the seat base egress linkage. The unsafe condition, if not addressed, could result in a significant increase in crew workload for continued safe flight and landing.

You may examine the MCAI in the AD docket at regulations.gov under Docket No. FAA-2024-0468.

Discussion of Final Airworthiness Directive

Comments

The FAA received comments from two commenters, including Collins Aerospace and Delta Airlines (Delta). The following presents the comments received on the NPRM and the FAA's response to each comment.

Request for Later-Approved Service Information

Collins Aerospace and Delta requested that the FAA edit paragraph (h)(3) of the proposed AD so that it would allow the use of later service information. Paragraph (h)(3) of the proposed AD would mandate Goodrich Interiors Service Bulletin 1430-25-003, Revision C, dated November 22, 2022.

The FAA disagrees with the request. Transport Canada AD CF-2023-40, dated June 13, 2023, refers to “Airbus Canada Service Bulletin (SB) BD500-251006, Issue 001, dated 05 April 2023, or later revisions approved by the Chief, Continuing Airworthiness, Transport Canada,” but does not specifically allow later-approved revisions of any service information cited in that Airbus Canada service bulletin. The FAA has not changed this AD as a result of this comment.

Request for Clarification of Paragraph (h)(3) of Proposed AD

Delta requested clarification of the wording in (h)(3) of the proposed AD where it is specified to “Do Goodrich Interiors Service Bulletin 1430-25-003” and to update paragraph (h)(3) of the proposed AD to include either “refer to” or “in accordance with.” The commenter would like clarification whether the verb “do” implies “refer to” or “in accordance with.” Conditional on the FAA's concurrence with this request, Delta also requested an additional similar exception be included in paragraph (h) of the proposed AD to allow accomplishment of the operational test specified in Goodrich Interiors Service Bulletin 1430-25-003 instructions for the Function Check under Section 3.F. using the A220 AMP Task BD500-A-J25-11-00-01AAA-320A-A in lieu of CMM 25-11-20.

The FAA disagrees with changing paragraph (h)(3) of this AD to include “refer to” or “in accordance with.” To clarify, this AD and the service information use the word “do” to communicate what operators need to accomplish, and therefore indicates a required action.

Request for Additional Exception

Delta requested the addition of the following paragraph: “(h)(4) As the Goodrich Interiors Service Bulletin 1430-25-003 have instructions of removal and installation of the affected seats from the seat tracks, this AD allows the seat removal and installation procedures using the AMP procedures as listed in the procedure of Service Bulletin BD500-251006 Issue No. 001, dated 05 April 2023, or later revisions approved by the Chief, Continuing Airworthiness, Transport Canada.” Airbus SB BD500-251006 Issue 001 Procedures section and Goodrich Interiors SB 1430-25-003 Accomplishment Instructions section both state that the pilot seats need to be removed, so the commenter is concerned with confusion due to both service bulletins giving instructions to perform the same tasks.

The FAA agrees that the repetition of steps in the Airbus and Goodrich Interiors SB could lead to confusion if operators are trying to follow SB steps. The AD should clarify what procedures the operators should follow because operators may not know whether they are in compliance with this AD if there are steps that cannot be accomplished. The FAA has added paragraph (h)(4) to this AD to allow the use of only Airbus SB BD500-251006, Issue 001, dated April 5, 2023, for seat removal and installation procedures.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, this AD is adopted as proposed in the NPRM. None of the changes will increase the economic burden on any operator.

Material Incorporated by Reference Under 1 CFR Part 51

Transport Canada AD CF-2023-40 specifies procedures for modifying the pilot and co-pilot seats by replacing the hardware of the seat base egress linkage. This material is reasonably available because the interested parties have access to it through their normal course of business or by the means identified in the ADDRESSES section.

Costs of Compliance

The FAA estimates that this AD affects 23 airplanes of U.S. registry. The FAA estimates the following costs to comply with this AD:

Estimated Costs for Required Actions
Labor cost | Parts cost | Cost per product | Cost on U.S. operators
Up to 2 work-hours × $85 per hour = $170 | Up to $200 | Up to $370 | Up to $8,510.

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-24-08 Airbus Canada Limited Partnership (Type Certificate Previously Held by C Series Aircraft Limited Partnership (CSALP); Bombardier, Inc.): Amendment 39-22898; Docket No. FAA-2024-0468; Project Identifier MCAI-2023-00762-T.

(a) Effective Date

This airworthiness directive (AD) is effective January 13, 2025.

(b) Affected ADs

None.

(c) Applicability

This AD applies to Airbus Canada Limited Partnership (Type Certificate previously held by C Series Aircraft Limited Partnership (CSALP); Bombardier, Inc.) Model BD-500-1A10 and BD-500-1A11 airplanes, certificated in any category, as identified in Transport Canada AD CF-2023-40, dated June 13, 2023 (Transport Canada AD CF-2023-40).

(d) Subject

Air Transport Association (ATA) of America Code 25, Equipment/Furnishings.

(e) Unsafe Condition

This AD was prompted by multiple occurrences of pilot and co-pilot seats locking in a fore-aft position due to the seat fore-aft adjustment mechanism disconnecting. The FAA is issuing this AD to address the disconnection of the seat fore-aft adjustment mechanism caused by a broken cotter pin in the seat base egress linkage. The unsafe condition, if not addressed, could result in a significant increase in crew workload for continued safe flight and landing.

(f) Compliance

Comply with this AD within the compliance times specified, unless already done.

(g) Requirements

Except as specified in paragraph (h) of this AD: Comply with all required actions and compliance times specified in, and in accordance with, Transport Canada AD CF-2023-40.

(h) Exceptions to Transport Canada AD CF-2023-40

(1) Where Transport Canada AD CF-2023-40 refers to its effective date, this AD requires using the effective date of this AD.

(2) Where Transport Canada AD CF-2023-40 refers to “hours air time,” this AD requires using flight hours.

(3) Where the service information referenced in Transport Canada AD CF-2023-40 specifies to “Do Goodrich Interiors Service Bulletin 1430-25-003,” this AD requires replacing that text with “Do Goodrich Interiors Service Bulletin 1430-25-003, Revision C, dated November 22, 2022.”

(4) Where the service information specified in Transport Canada AD CF-2023-40 specifies removal and installation steps in accordance with both Airbus Canada Limited Partnership Service Bulletin BD500-251006 and Goodrich Interiors Service Bulletin 1430-25-003, this AD does not require the removal/installation steps in Goodrich Interiors Service Bulletin 1430-25-003.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (j) of this AD. Information may be emailed to AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Transport Canada Design Approval Organization (DAO). If approved by the DAO, the approval must include the DAO-authorized signature.

(3) Required for Compliance (RC): Except as required by paragraph (i)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Additional Information

For more information about this AD, contact Fatin Saumik, Aviation Safety Engineer, FAA, 1600 Stewart Avenue, Suite 410, Westbury, NY 11590; phone 516-228-7300; email fatin.r.saumik@faa.gov.

(k) Material Incorporated by Reference

(1) The Director of the Federal Register approved the incorporation by reference (IBR) of the material listed in this paragraph under 5 U.S.C. 552(a) and 1 CFR part 51.

(2) You must use this material as applicable to do the actions required by this AD, unless this AD specifies otherwise.

(i) Transport Canada AD CF-2023-40, dated June 13, 2023.

(ii) [Reserved]

(3) For Transport Canada AD CF-2023-40 identified in this AD, contact Transport Canada, Transport Canada National Aircraft Certification, 159 Cleopatra Drive, Nepean, Ontario K1A 0N5, Canada; telephone 888-663-3639; email TC.AirworthinessDirectives-Consignesdenavigabilite.TC@tc.gc.ca. You may find this Transport Canada AD on the Transport Canada website at tc.canada.ca/en/aviation.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locationsoremailfr.inspection@nara.gov.

Issued on November 22, 2024.
Peter A. White,
Deputy Director, Integrated Certificate Management Division, Aircraft Certification Service.

[FR Doc. 2024-28785 Filed 12-6-24; 8:45 am]

BILLING CODE 4910-13-P